COMMITTEE FOR THE IMPLEMENTATION OF TEXTILE AGREEMENTS

Request for Public Comments on Commercial Availability of Certain Shirting Fabrics

July 13, 2004.

AGENCY: The Committee for the Implementation of Textile Agreements (CITA).

ACTION: Request for public comments concerning the commercial availability of certain shirting fabrics in the United States or another of the proposed United States-Central American Free Trade Agreement countries.

SUMMARY: On May 28, 2004, the Governments of the United States and five Central American countries signed the United States-Central American Free Trade Agreement (US-CAFTA). In a letter to the Government of Honduras in the context of the Agreement, the United States agreed to conduct an investigation to determine whether certain shirting fabrics are available in commercial quantities in a timely manner in the territory of any of the parties to the US-CAFTA. The United States agreed to make the results of the investigation available to Honduras before the entry into force of the US-CAFTA.

CITA hereby solicits public comments with regard to whether the 53 fabrics listed in the annex to this notice can be supplied by the industry in a US-CAFTA country in commercial quantities in a timely manner. A listing of the fabrics is also available online at http://otexa.ita.doc.gov. Comments must be submitted by August 16, 2004 to the Chairman, Committee for the Implementation of Textile Agreements, room 3001, United States Department of Commerce, 14th and Constitution Avenue, N.W. Washington, D.C. 20230.

FOR FURTHER INFORMATION CONTACT: Richard Stetson, International Trade Specialist, Office of Textiles and Apparel, U.S. Department of Commerce, (202) 482-3400.

SUPPLEMENTARY INFORMATION:

BACKGROUND:

On May 28, 2004, the Governments of the United States and five Central American countries signed the US-CAFTA. In a letter to the Government of Honduras in the context of the Agreement, the United States agreed to conduct an investigation to determine whether certain shirting fabrics are available in commercial quantities in a timely manner in the territory of any of the parties to the US-CAFTA, namely: the United States, Costa Rica, El Salvador, Guatemala, Honduras and Nicaragua. The United States agreed to make the results of the investigation available to Honduras before the entry into force of the Agreement. The list of 53 subject fabrics is attached in an annex to this notice. A listing of the fabrics is also available online at http://otexa.

CITA is soliciting public comments with respect to whether these fabrics can be supplied by industry in a US-CAFTA country in commercial quantities in a timely manner. Comments must be received no later than August 16, 2004. Interested persons are invited to submit such comments or information to the Chairman, Committee for the Implementation of Textile Agreements, room 3001, United States Department of Commerce, 14th and Constitution Avenue, N.W. Washington, D.C. 20230.

CITA is particularly interested in detailed information regarding the ability to manufacture and supply the specific fabrics contained on the subject list, including the location of the manufacturing facility, the types of equipment available to manufacture the subject fabric, the quantity that can be supplied, the amount of the subject fabric that has been supplied in past years, the time necessary to fulfill an order for the subject fabric, and a square foot sample of the subject fabric that the manufacturer claims it can supply.

CITA will protect any business confidential information that is marked business confidential from disclosure to the full extent permitted by law.

D. Michael Hutchinson,
Acting Chairman, Committee for the Implementation of Textile Agreements.

ANNEX
Content | HTSUS# | how dyed / colored | Overall Construction | Fabric Construction: Warp | Fabric Construction: Weft | Yarn Count: Warp | Yarn Count: Weft | Weave/Dye | Avg Yn# | GR/CM2 | Threads CM/2
100% cotton | 5208.23 | piece dye white | 133X72 CM40/1XCM40/1 | 133 | 72 | 40 | 40 | twill piece dye | 68 | 119.13 | 81
100% cotton | 5208.33 | piece dye color | 133X72 CM40/1XCM40/1 | 133 | 72 | 40 | 40 | twill piece dye | 68 | 119.13 | 81
100% cotton | 5208.43 | yarns of different color | 120X100 CM50/1XCM50/1 | 120 | 100 | 50 | 50 | twill yarn dye | 85 | 102.28 | 87
100% cotton | 5208.43 | yarns of different color | 120X90 CM40/1XCM40/1 | 120 | 90 | 40 | 40 | twill yarn dye | 68 | 122.03 | 83
100% cotton | 5208.43 | yarns of different color | 130X80 CM50/1XCM50/1 | 130 | 80 | 50 | 50 | twill yarn dye | 85 | 97.63 | 83
100% cotton | 5208.43 | yarns of different color | 130X90 CM50/1XCM50/1 | 130 | 90 | 50 | 50 | twill yarn dye | 85 | 102.28 | 87
100% cotton | 5208.43 | yarns of different color | 144X100 CM50/1XCM40/1 | 144 | 100 | 50 | 40 | twill yarn dye | 77 | 125.06 | 96
100% cotton | 5208.43 | yarns of different color | 144X76 CM50/1XCM50/1 | 144 | 76 | 50 | 50 | twill yarn dye | 85 | 102.28 | 87
100% cotton | 5208.43 | yarns of different color | 150X100 CM50/1XCM40/1 | 150 | 100 | 50 | 40 | twill yarn dye | 77 | 127.85 | 98
60% cotton/40% polyester | 5210.22 | piece dye white | 130X90 45/1X45/1 | 130 | 90 | 45 | 45 | twill piece dye | 76 | 113.64 | 87
60% cotton/40% polyester | 5210.32 | piece dye color | 130X90 45/1X45/1 | 130 | 90 | 45 | 45 | twill piece dye | 76 | 113.64 | 87
60% cotton/40% polyester | 5210.42 | yarns of different color | 120X80 45/1X45/1 | 120 | 80 | 45 | 45 | twill yarn dye | 76 | 103.31 | 79
60% cotton/40% polyester | 5210.42 | yarns of different color | 120X90 45/1X45/1 | 120 | 90 | 45 | 45 | twill yarn dye | 76 | 108.47 | 83
60% cotton/40% polyester | 5210.42 | yarns of different color | 130X90 45/1X45/1 | 130 | 90 | 45 | 45 | twill yarn dye | 76 | 113.64 | 87
100% polyester | 5512.11 | piece dye white | 120X80 P40/1XP40/1 | 120 | 80 | 40 | 40 | plain weave piece dye | 68 | 116.22 | 79
100% polyester | 5512.19 | piece dye color | 120X80 P40/1XP40/1 | 120 | 80 | 40 | 40 | plain weave piece dye | 68 | 116.22 | 79
70% polyester / 30% cotton | 5513.13 | piece dye white | 120X70 45/1 + P150DX45/1 | 120 | 70 | 45+150D | 45 | dobby piece dye | 106 | 70.84 | 75
65% polyester / 35% cotton | 5513.11 | piece dye white | 133X75 45/1X45/1 | 133 | 75 | 45 | 45 | plain weave piece dye | 76 | 107.44 | 82
65% polyester / 35% cotton | 5513.11 | piece dye white | 135X72 45/1X45/1 | 135 | 72 | 45 | 45 | plain weave piece dye | 76 | 106.92 | 81
65% polyester / 35% cotton | 5513.21 | piece dye color | 133X75 45/1X45/1 | 133 | 75 | 45 | 45 | plain weave piece dye | 76 | 107.44 | 82
65% polyester / 35% cotton | 5513.21 | piece dye color | 135X72 45/1X45/1 | 135 | 72 | 45 | 45 | plain weave piece dye | 76 | 106.92 | 81
70% polyester / 30% cotton | 5513.23 | piece dye color | 120X70 45/1 + P150DX45/1 | 120 | 70 | 45+150D | 45 | dobby piece dye | 106 | 70.84 | 75
64% cotton / 36% polyester | 5210.49 | yarns of different color | 130X80 45/1XP100D | 130 | 80 | 45 | 100D | dobby yarn dye | 81 | 102.14 | 83
55%rayon/45% polyester | 5516.21 | piece dye white | 120X70 P75DXR32/1 | 120 | 70 | 75D | 32 | plain weave piece dye | 83 | 90.21 | 75
55%rayon/45% polyester | 5516.22 | piece dye color | 120X70 P75DXR32/1 | 120 | 70 | 75D | 32 | plain weave piece dye | 83 | 90.21 | 75
100% cotton | 5208.23 | piece dye white | 130X70 CM32/1XCM32/1 | 130 | 70 | 32 | 32 | twill piece dye | 54 | 145.28 | 79
100% cotton | 5208.23 | piece dye white | 144X100 CM50/1XCM40/1 | 144 | 100 | 50 | 40 | twill piece dye | 77 | 125.06 | 96
100% cotton | 5208.23 | piece dye white | 150X100 CM50/1XCM40/1 | 150 | 100 | 50 | 40 | twill piece dye | 77 | 127.85 | 98
100% cotton | 5208.23 | piece dye white | 160X100 CM50/1XCM40/1 | 160 | 100 | 50 | 40 | twill piece dye | 77 | 132.49 | 102
100% cotton | 5208.33 | piece dye color | 130X70 CM32/1XCM32/1 | 130 | 70 | 32 | 32 | twill piece dye | 54 | 145.28 | 79
100% cotton | 5208.33 | piece dye color | 144X100 CM50/1XCM40/1 | 144 | 100 | 50 | 40 | twill piece dye | 77 | 125.06 | 96
100% cotton | 5208.33 | piece dye color | 150X100 CM50/1XCM40/1 | 150 | 100 | 50 | 40 | twill piece dye | 77 | 127.85 | 98
100% cotton | 5208.33 | piece dye color | 160X100 CM50/1XCM40/1 | 160 | 100 | 50 | 40 | twill piece dye | 77 | 132.49 | 102
100% polyester(Of text. Poly filaments) | 5407.51 | piece dye white | 107X84 P75D/48FXP75D/48F | 107 | 84 | 75D | 75D | plain weave piece dye | 120 | 62.65 | 75
100% polyester(Of text. Poly filaments) | 5407.51 | piece dye white | 115X80 165DX165D | 115 | 80 | 165D | 165D | plain weave piece dye | 55 | 140.72 | 77
100% polyester(Of text. Poly filaments) | 5407.51 | piece dye white | 228X100 P75DXP210D | 228 | 100 | 75D | 210D | dobby piece dye | 78 | 166.62 | 129
100% polyester(Of text. Poly filaments) | 5407.52 | piece dye color | 107X84 P75D/48FXP75D/48F | 107 | 84 | 75D | 75D | plain weave piece dye | 120 | 62.65 | 75
100% polyester(Of text. Poly filaments) | 5407.52 | piece dye color | 115X80 165DX165D | 115 | 80 | 165D | 165D | plain weave piece dye | 55 | 140.72 | 77
100% polyester(Of text. Poly filaments) | 5407.52 | piece dye color | 228X100 P75DXP210D | 228 | 100 | 75D | 210D | dobby piece dye | 78 | 166.62 | 129
50% polyester/50%modal rayon | 5516.22 | piece dye color | 187X81 P50DXR30/1 | 187 | 81 | 50D | 30 | plain weave piece dye | 102 | 103.65 | 106
80%rayon / 20% polyester | 5516.22.0040 | piece dye color | 130X85 R30/1XP75D | 130 | 85 | 30 | 75D | twill piece dye | 66 | 128.61 | 85
55% modal rayon/45% polyester | 5516.21 | piece dye white | 187X81 P50DXMR30/1 | 187 | 81 | 50D | 30 | plain weave piece dye | 102 | 103.65 | 106
70% rayon / 30% polyester | 5516.21 | piece dye white | 133X64 R30/1XP150D | 133 | 64 | 30 | 150D | oxford piece dye | 53 | 145.04 | 78
38%polyester/34%cotton/28%rayon | 5516.22 | piece dye color | 120X70 RC32/1X40/1P + P200D | 120 | 70 | 32 | 40+200D | dobby piece dye | 67 | 111.61 | 75
53% rayon/47% polyester | 5516.22 | piece dye color | 100X68 R30 + P150DXR30 + P150D | 100 | 68 | 30+150D | 30+150D | plain weave piece dye | 111 | 59.68 | 66
55% modal rayon/45% polyester | 5516.22 | piece dye color | 187X81 P50DXMR30/1 | 187 | 81 | 50D | 30 | plain weave piece dye | 102 | 103.65 | 106
70% rayon/30% polyester | 5516.22 | piece dye color | 133X64 R30/1XP150D | 133 | 64 | 30 | 150D | oxford piece dye | 53 | 145.04 | 78
65% rayon/35% polyester | 5516.93 | yarn dyed | 90X70 30/1X30/1 | 90 | 70 | 30 | 30 | plain weave yarn dye | 51 | 123.97 | 63
55%rayon/45% cotton | 5408.31 | piece dye white | 120X96 R120DXCM80/2 | 120 | 96 | 120D | 80/2 | twill piece dye | 143 | 118.77 | 170
55%rayon/45% cotton | 5408.32 | piece dye color | 120X96 R120DXCM80/2 | 120 | 96 | 120D | 80/2 | twill piece dye | 143 | 118.77 | 170
55%rayon/45% cotton | 5408.33 | yarns of different color | 120X96 R120DXCM80/2 | 120 | 96 | 120D | 80/2 | twill yarn dye | 143 | 118.77 | 170
64% rayon / 36% cotton | 5516.43 | yarns of different color | 120X80 RC32/1XRC32/1 | 120 | 80 | 32 | 32 | twill yarn dye | 54 | 145.28 | 79
64% rayon/36% cotton | 5516.43 | yarns of different color | 90X70 RC30/1XRC30/1 | 90 | 70 | 30 | 30 | plain weave yarn dye | 51 | 123.97 | 63

KEY notations |
CM | combed and mercerized
MR | model rayon
RC | rayon cotton
P | polyester
D | denier
F | # of filaments
# /1 | single yarn
# /2 | plyed yarn
P75D | polyester 75 denier
R120D | rayon 120 denier
JASPE | 2 colored yarns plyed
T/C | polyester cotton intimate blend
P100D/48F | polyester 100 denier, 48 filaments
L40D | lycra monofilament 40 denier
R30/1 | rayon 30 single

[FR Doc.04-16220 Filed 7-15-04; 8:45 am]

BILLING CODE 3510-DR-S